DEPARTMENT OF STATE

[Public Notice 8582]

In the Matter of the Designation of Ansar al-Shari'a in Benghazi; Also Known as Ansar al-Sharia in Libya; Also Known as Ansar al-Shariah Brigade; Also Known as Ansar al-Shari'a Brigade; Also Known as Katibat Ansar al-Sharia in Benghazi; Also Known as Ansar al-Shariah-Benghazi; Also Known as Al-Raya Establishment for Media Production; Also Known as Ansar al-Sharia; Also Known as Soldiers of the Sharia; Also Known as Ansar al-Shariah; Also Known as Supporters of Islamic Law; as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Ansar al-Shari'a in Benghazi, also known as Ansar al-Sharia in Libya, also known as Ansar al-Shariah Brigade, also known as Ansar al-Shari'a Brigade, also known as Katibat Ansar al-Sharia in Benghazi, also known as Ansar al-Shariah-Benghazi, also known as Al-Raya Establishment for Media Production, also known as Ansar al-Sharia, also known as Soldiers of the Sharia, also known as Ansar al-Shariah, also known as Supporters of Islamic Law.

Therefore, I hereby designate the aforementioned organization and its aliases as a Foreign Terrorist Organization pursuant to section 219 of the INA.

This determination shall be published in the Federal Register.

Dated: December 31, 2013.
John F. Kerry,
Secretary of State.

[FR Doc. 2014-00403 Filed 1-10-14; 8:45 am]

BILLING CODE 4710-10-P